NUCLEAR REGULATORY COMMISSION

[Docket No. 50-0219-LR; ASLBP No. 06-844-01-LR]

American Energy Company, LLC; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

American Energy Company, LLC (Oyster Creek Nuclear Generating Station)

A Licensing Board is being established pursuant to a September 15, 2005 notice of opportunity for hearing (70 FR 54,585) regarding the July 22, 2005 application for renewal of Operating License No. DPR-16, which authorizes the American Energy Company, LLC, (AmerGen) to operate the Oyster Creek Nuclear Generating Station at 1930 megawatts (Mwt) thermal. The AmerGen renewal application seeks to extend the current operating license for the facility, which expires on April 9, 2009, for an additional twenty years. This proceeding concerns the November 14, 2005 requests for hearing/petitions to intervene filed by (1) the Nuclear Information and Resource Service, Jersey Shore Nuclear Watch, Inc., Grandmother, Mothers and More for Energy Safety, the New Jersey Public Interest Research Group, the New Jersey Environmental Federation, and the New Jersey Sierra Club; and (2) the New Jersey Department of Environmental Protection.

The Board is comprised of the following administrative judges:

E. Roy Hawkens, Chair, Atomic Safety and Licensing Board Panel, U.S. Nuclear Regulatory Commission, Washington, DC 20555-0001.

Dr. Paul B. Abramson, Atomic Safety and Licensing Board Panel, U.S. Nuclear Regulatory Commission, Washington, DC 20555-0001.

Dr. Anthony J. Baratta, Atomic Safety and Licensing Board Panel, U.S. Nuclear Regulatory Commission, Washington, DC 20555-0001.

All correspondence, documents, and other materials shall be filed with the administrative judges in accordance with 10 CFR 2.302.

Issued at Rockville, Maryland, this 9th day of December 2005.
G. Paul Bollwerk, III,
Chief Administrative Judge, Atomic Safety and Licensing Board Panel.

[FR Doc. E5-7388 Filed 12-14-05; 8:45 am]

BILLING CODE 7590-01-P